DEPARTMENT OF COMMERCE

National Oceanic and Atmospheric Administration

RIN 0648-XV37

Endangered and Threatened Species; Take of Anadromous Fish

AGENCY: National Marine Fisheries Service (NMFS), National Oceanic and Atmospheric Administration (NOAA), Commerce.

ACTION: Notice; availability of fishery plan and request for comment.

SUMMARY: Notice is hereby given that the Washington Department of Fish and Wildlife (WDFW) has submitted a Fishery Management and Evaluation Plan (FMEP) pursuant to the protective regulations promulgated for Snake River steelhead, Snake River spring/summer Chinook, and Snake River fall Chinook salmon under the Endangered Species Act (ESA). The FMEP specifies the future management of freshwater inland recreational fisheries potentially affecting basin steelhead and Chinook salmon in portions of the Snake River basin within the State of Washington. This document serves to notify the public of the availability of the FMEP and associated draft environmental assessment (EA) for comment prior to a decision by NMFS whether to approve the proposed fisheries. All comments received will become part of the public record and will be available for review pursuant to the ESA.

DATES: Comments must be received at the appropriate address or fax number (see ADDRESSES) no later than 5 p.m. Pacific time on May 3, 2010.

ADDRESSES: Written comments on the application should be addressed to the NMFS Salmon Recovery Division, 1201 NE Lloyd Boulevard, Suite 1100, Portland, OR 97232, or faxed to 503-872-2737. Comments may be submitted by e-mail. The mailbox address for providing e-mail comments is: WDFWFisheries.nwr@noaa.gov. Include in the subject line of the e-mail comment the following identifier: Comments on Washington's fishery plan.

FOR FURTHER INFORMATION CONTACT: Enrique Patio, at phone number: (206) 526-4655, or e-mail: Enrique.Patino@noaa.gov.

SUPPLEMENTARY INFORMATION:

Species Covered in This Notice

This notice is relevant to the Snake River Steelhead (Oncorhynchus mykiss) Distinct Population Segment (DPS), the Snake River Spring/summer-run Chinook Salmon (Oncorhynchus tshawytscha) Evolutionarily Significant Unit (ESU), and the Snake River Fall-run Chinook (Oncorhynchus tshawytscha) ESU.

WDFW has submitted to NMFS an FMEP entitled “WDFW Recreational fisheries for summer steelhead, warmwater fish, sturgeon, carp, and other species.” The FMEP describes the management of recreational fisheries in the State of Washington, Snake River basin, for adipose-clipped, hatchery-origin summer steelhead, warmwater fish, sturgeon, carp, and other game fish species in a manner that is intended to comply with requirements of the ESA under limit 4 of the 4(d) Rule. The FMEP includes adaptive management measures to limit ESA impacts and proposes conservative incidental harvest regimes on natural-origin members of the affected listed species. As described in the FMEP, the proposed fisheries are expected to result in the mortality of no more than 5%, 1.5%, and 0.2% of any population of listed, natural-origin Snake River steelhead, fall Chinook salmon, and spring/summer Chinook salmon, respectively. The FMEP presents evidence that the abundance of natural-origin fish has trended upwards over the past five years. In addition, the FMEP includes monitoring programs that are intended to ensure that the proposed fisheries and associated incidental take would not reduce the chances of survival and recovery of the affected listed species.

The FMEP includes a provision that directs WDFW to conduct an annual review to determine if completed fisheries were conducted in manner that complied with the guidance provided in the FMEP. Further, WDFW will provide a pre-season planning letter each year to NMFS for concurrence that demonstrates the fisheries intended for the upcoming season shall be consistent with the fisheries management protocols described in the FMEP.

As specified in the July 10, 2000, ESA 4(d) rule for salmon and steelhead (65 FR 42422) and updated June 28, 2005 (70 FR 37160), NMFS may approve an FMEP if it meets criteria set forth in 50 CFR 223.203(b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 4 of the updated 4(d) rule (50 CFR 223.203(b)(4)) further provides that the prohibitions of paragraph (a) of the updated 4(d) rule (50 CFR 223.203(a)) do not apply to activities associated with fishery harvest provided that an FMEP has been approved by NMFS to be in accordance with the salmon and steelhead 4(d) rule (65 FR 42422, July 10, 2000, as updated in 70 FR 37160, June 28, 2005).

Dated: March 29, 2010.
Therese Conant,
Acting Chief, Endangered Species Division, Office of Protected Resources, National Marine Fisheries Service.

[FR Doc. 2010-7491 Filed 4-1-10; 8:45 am]

BILLING CODE 3510-22-S